DEPARTMENT OF ENERGY

Federal Energy Regulatory Commission

Combined Notice of Filings #1

Take notice that the Commission received the following electric corporate filings:

Docket Numbers: EC17-125-000.

Applicants: U.S. Gas & Electric, Inc., Energy Services Providers, Inc., Massachusetts Gas & Electric, Inc., Connecticut Gas & Electric, Inc., Verengo, Inc.

Description: Application for Authorization for Disposition of Jurisdictional Facilities and Request for Waivers, Confidential Treatment and Expedited Action of U.S. Gas & Electric, Inc., et. al.

Filed Date: 5/30/17.

Accession Number: 20170530-5232.

Comments Due: 5 p.m. ET 6/20/17.

Take notice that the Commission received the following electric rate filings:

Docket Numbers: ER10-1982-014; ER10-1246-013; ER10-1252-013; ER10-1253-013.

Applicants: Consolidated Edison Company of New York, Inc., Orange and Rockland Utilities, Inc., Consolidated Edison Energy, Inc., Consolidated Edison Solutions, Inc.

Description: Amendment to December 15, 2016 Triennial Market Power Analysis for the Northeast region of the Con Edison Companies.

Filed Date: 5/30/17.

Accession Number: 20170530-5224.

Comments Due: 5 p.m. ET 6/20/17.

Docket Numbers: ER10-2764-016.

Applicants: Vantage Wind Energy LLC.

Description: Supplement to December 23, 2016 Triennial Report for the Northwest Region of Vantage Wind Energy.

Filed Date: 5/30/17.

Accession Number: 20170530-5310.

Comments Due: 5 p.m. ET 6/20/17.

Docket Numbers: ER16-2411-002.

Applicants: Luning Energy Holdings LLC.

Description: Supplement to December 16, 2016 Triennial Report for Northwest region of Luning Energy Holdings LLC.

Filed Date: 5/30/17.

Accession Number: 20170530-5229.

Comments Due: 5 p.m. ET 6/20/17.

Docket Numbers: ER17-1710-000.

Applicants: PJM Interconnection, L.L.C.

Description: § 205(d) Rate Filing: Wholesale Market Participation Agreement No. 4710; Queue No. AC1-203 to be effective 5/8/2017.

Filed Date: 5/30/17.

Accession Number: 20170530-5158.

Comments Due: 5 p.m. ET 6/20/17.

Docket Numbers: ER17-1711-000.

Applicants: Upper Peninsula Power Company.

Description: § 205(d) Rate Filing: Sales of Ancillary Services and Distribution Service to be effective 7/1/2017.

Filed Date: 5/31/17.

Accession Number: 20170531-5001.

Comments Due: 5 p.m. ET 6/21/17.

Docket Numbers: ER17-1712-000.

Applicants: Midcontinent Independent System Operator, Inc.

Description: § 205(d) Rate Filing: 2017-05-31_Compensation for Manual Redispatch filing to be effective 6/1/2017.

Filed Date: 5/31/17.

Accession Number: 20170531-5023.

Comments Due: 5 p.m. ET 6/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2017.
Kimberly D. Bose,
Secretary.

[FR Doc. 2017-11660 Filed 6-5-17; 8:45 am]

BILLING CODE 6717-01-P